DEPARTMENT OF COMMERCE

International Trade Administration

[A-523-813, A-580-903]

Polyethylene Terephthalate Sheet From the Republic of Korea and the Sultanate of Oman: Postponement of Preliminary Determinations in the Less-Than-Fair-Value Investigations

AGENCY: Enforcement and Compliance, International Trade Administration, Department of Commerce.

DATES: Applicable December 26, 2019.

FOR FURTHER INFORMATION CONTACT: Laurel LaCivita at (202) 482-4243 or Katherine Sliney at (202) 482-2437 (Republic of Korea (Korea)); Matthew Renkey at (202) 482-2312 or Javier Barrientos at (202) 482-2243 (Sultanate of Oman (Oman)), AD/CVD Operations, Enforcement and Compliance, International Trade Administration, U.S. Department of Commerce, 1401 Constitution Avenue NW, Washington, DC 20230.

SUPPLEMENTARY INFORMATION:

Background

On August 19, 2019, the Department of Commerce (Commerce) initiated less-than-fair-value (LTFV) investigations of imports of polyethylene terephthalate sheet from Korea and Oman.¹ Currently, the preliminary determinations are due no later than January 6, 2020.

¹ See Polyethylene Terephthalate Sheet from the Republic of Korea, Mexico, and the Sultanate of Oman: Initiation of Less-Than-Fair-Value Investigations, 84 FR 44854 (August 27, 2019).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.²

² See 19 CFR 351.205(e).

On December 3, 2019, the petitioners ³ submitted a timely request that Commerce postpone the preliminary determinations in these LTFV investigations.⁴ The petitioners stated that a postponement is necessary to provide Commerce with adequate time to solicit additional information from the respondents, to review supplemental questionnaire responses, and to consider petitioners' particular market situation allegation.⁵

³ The petitioners are Advanced Extrusion Inc., Ex-Tech Plastics, Inc., and Multi-Plastics Extrusions, Inc. (collectively, the petitioners).

⁴ See Petitioners' Letter, “Polyethylene Terephthalate Sheet from Oman and Korea—Petitioners' Request to Postpone Preliminary Determinations,” dated December 3, 2019.

⁵ Id.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than February 25, 2020. In accordance with section 735(a)(1) of the Act and 19 CFR 351.210(b)(1), the deadline for the final determinations of these investigations will continue to be 75 days after the date of the preliminary determinations, unless postponed at a later date.

Notification to Interested Parties

This notice is issued and published pursuant to section 733(c)(2) of the Act and 19 CFR 351.205(f)(1).

Dated: December 17, 2019.
Jeffrey I. Kessler,
Assistant Secretary for Enforcement and Compliance.

[FR Doc. 2019-27694 Filed 12-23-19; 8:45 am]

BILLING CODE 3510-DS-P